DEPARTMENT OF DEFENSE

Department of the Navy

Meeting of the Naval Research Advisory Committee

AGENCY: Department of the Navy, DOD.

ACTION: Notice of closed meeting.

SUMMARY: The Naval Research Advisory Committee (NRAC) Panel on Electromagnetic (EM) Gun Technology Assessment will meet to provide a technical assessment of the status of EM Gun technology and the potential for achieving the revolutionary performance associated with this concept for Naval applications. From these discussions the NRAC Panel will review and document the performance capabilities considered necessary to achieve a militarily effective EM Gun system; review and assess the currently demonstrated and projected performance of those technologies necessary to field a durable EM gun with predictable, repeatable performance; evaluate the production feasibility of a projectile that will withstand all launch environmental transients and effectively perform at the target; project rough order of magnitude cost estimates for the non-recurring general projectile development program and the subsequent recurring projectile costs. All sessions of the meeting will be closed to the public.

DATES: The meetings will be held on Monday, July 7, 2003, from 8 a.m. to 5 p.m.; Tuesday, July 8, 2003, from 8 a.m. to 5 p.m. and Wednesday, July 9, 2003, from 8 a.m. to 5 p.m.

ADDRESSES: The meetings will be held at the Office of Naval Research, 800 North Quincy Street, Arlington, VA 22217-5660.

FOR FURTHER INFORMATION CONTACT: Dennis Ryan, Program Director, Naval Research Advisory Committee, 800 North Quincy Street, Arlington, VA 22217-5660, (703) 696-6769.

SUPPLEMENTARY INFORMATION: This notice of meeting is provided in accordance with the provisions of the Federal Advisory Committee Act (5 U.S.C. App. 2). All sessions of the meeting will be devoted to discussions basic and advanced research and associated science and technology opportunities with respect to concepts and science and technology (S&T) initiatives required to produce a militarily effective Naval EM Gun system. These discussions will contain classified information that is specifically authorized under criteria established by Executive Order to be kept secret in the interest of national defense and are in fact properly classified pursuant to such Executive Order. The classified and non-classified matters to be discussed are so inextricably intertwined as to preclude opening any portion of the meeting. In accordance with 5 U.S.C. App. 2, section 10(d), the Secretary of the Navy has determined in writing that the public interest requires that all sessions of the meeting be closed to the public because they will be concerned with matters listed in 5 U.S.C. section 552b(c)(1). Due to unavoidable delay in administrative processing, the normal 15 days notice could not be provided.

Dated: June 27, 2003.
E.F. McDonnell,
Major, U.S. Marine Corps, Federal Register Liaison Officer.

[FR Doc. 03-16840 Filed 7-1-03; 8:45 am]

BILLING CODE 3810-FF-P